DEPARTMENT OF LABOR

Employment and Training Administration

Investigations Regarding Certifications of Eligibility To Apply for Worker Adjustment Assistance and Alternative Trade Adjustment Assistance

Petitions have been filed with the Secretary of Labor under section 221 (a) of the Trade Act of 1974 (“the Act”) and are identified in the Appendix to this notice. Upon receipt of these petitions, the Director of the Division of Trade Adjustment Assistance, Employment and Training Administration, has instituted investigations pursuant to section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than September 6, 2007.

Interested persons are invited to submit written comments regarding the subject matter of the investigations to the Director, Division of Trade Adjustment Assistance, at the address shown below, not later than September 6, 2007.

The petitions filed in this case are available for inspection at the Office of the Director, Division of Trade Adjustment Assistance, Employment and Training Administration, U.S. Department of Labor, Room C-5311, 200 Constitution Avenue, NW., Washington, DC 20210.

Signed at Washington, DC, this 14th day of August 2007.
Ralph DiBattista,
Director, Division of Trade Adjustment Assistance.

Appendix
[TAA petitions instituted between 8/6/07 and 8/10/07]
TA-W | Subject firm (petitioners) | Location | Date of institution | Date of petition
61932 | Eaton Corporation (Comp) | Galesburg, MI | 08/06/07 | 08/03/07
61933 | Haines Service (Comp) | Lewiston, ME | 08/06/07 | 08/02/07
61934 | Maxtex Fibre Recycling Inc. (Wkrs) | Eden, NY | 08/06/07 | 08/02/07
61935 | Delta Apparel, Inc. (Comp) | Fayette, AL | 08/06/07 | 08/03/07
61936 | Gruber Systems (State) | Valencia, CA | 08/06/07 | 08/02/07
61937 | Wheatland Tube Company (State) | Little Rock, AR | 08/06/07 | 08/02/07
61938 | Superior Design and Engineering (Wkrs) | Sterling Heights, MI | 08/06/07 | 08/02/07
61939 | International Tooling (Wkrs) | Grand Rapids, MI | 08/06/07 | 08/03/07
61940 | Vertex Pharmaceuticals, Inc. (State) | Cambridge, MA | 08/07/07 | 08/03/07
61941 | Manufacturers Industrial Group, LLC (Comp) | Lexington, TN | 08/07/07 | 08/02/07
61942 | Best Textiles International Ltd. (Wkrs) | Cordele, GA | 08/07/07 | 07/10/07
61943 | WestPoint Home, Inc. (Comp) | Valley, AL | 08/07/07 | 08/01/07
61944 | Optical Communication Products, Inc. (Comp) | Woodland Hills, CA | 08/07/07 | 08/06/07
61945 | Delphi Corporation/Automotive Holdings Group (Comp) | Kettering, OH | 08/07/07 | 08/03/07
61946 | Atlantic Guest, Inc./dba Guest company (The) (State) | Meriden, CT | 08/07/07 | 08/06/07
61947 | Hater Industries/Charlevoix Manufacturing Co. (Comp) | Charlevoix, MI | 08/07/07 | 08/06/07
61948 | Chassis Supply Partners (Rep) | Columbia, TN | 08/07/07 | 08/02/07
61949 | Burke Mills, Inc. (Comp) | Valdese, NC | 08/07/07 | 07/25/07
61950 | Delphi Corporation (IUECWA) | Kettering, OH | 08/08/07 | 08/07/07
61951 | DI—Mar Industries (State) | West New York, NJ | 08/08/07 | 08/07/07
61952 | ICI Paints—Glidden Co. (The) (Union) | Reading, PA | 08/08/07 | 08/07/07
61953 | Eaton Corporation (Comp) | Portage, MI | 08/08/07 | 08/06/07
61954 | Unifi Kinston, LLC/Mundy Maintenance Services and Operations, LLC/OneSource (Comp) | Kinston, NC | 08/08/07 | 08/07/07
61955 | Q Dental Group PC (Wkrs) | Rochester, NY | 08/08/07 | 08/01/07
61956 | Toledo Commutator (Wkrs) | Owosso, MI | 08/08/07 | 08/06/07
61957 | Command Tooling Systems, LLC (State) | Ramsey, MN | 08/09/07 | 08/08/07
61958 | Philip Morris Products Int'l (BCTGM) | McKenney, VA | 08/09/07 | 08/08/07
61959 | Sewell Clothing Company, Inc. (Comp) | Bremen, GA | 08/09/07 | 07/18/07
61960 | Solutia, Inc. (State) | Sauget, IL | 08/09/07 | 08/06/07
61961 | Hickory House Furniture (Comp) | Newton, NC | 08/09/07 | 08/01/07
61962 | Hanesbrands, Inc. (Comp) | Winston-Salem, NC | 08/09/07 | 08/07/07
61963 | PennTecQ, Inc. (Comp) | Greenville, PA | 08/09/07 | 08/07/07
61964 | Reed Manufacturing Co., Inc. (Comp) | Tupelo, MS | 08/09/07 | 08/08/07
61965 | Stern Manufacturing (State) | Staples, MN | 08/09/07 | 08/08/07
61966 | Chemtura Corporation (Union) | Morgantown, WV | 08/09/07 | 08/06/07
61967 | G&C Foundry Company, Ltd. (The) (Comp) | Sandusky, OH | 08/09/07 | 08/09/07
61968 | Rockwell Automation (Comp) | Mayfield Heights, OH | 08/10/07 | 08/09/07
61969 | Nicholas and Stone Company (Comp) | Gardner, MA | 08/10/07 | 08/08/07
61970 | Belkin International, Inc. (Comp) | Compton, CA | 08/10/07 | 08/09/07
61971 | Youghiogheny Glass Company (Wkrs) | Connellsville, PA | 08/10/07 | 08/09/07
61972 | Metrolius Mountain Products (Comp) | Bend, OR | 08/10/07 | 08/09/07
61973 | Hill Hosiery Mill Inc./Hill Spinning Mill (Comp) | Thomasville, NC | 08/10/07 | 08/09/07
61974 | Ford Motor Company/Kentucky Truck Plant (Wkrs) | Louisville, KY | 08/10/07 | 08/02/07
61975 | R&R Manufacturing Company, Inc. (Comp) | Taunton, MA | 08/10/07 | 08/09/07
61976 | Intel Corp (State) | Hillsboro, OR | 08/10/07 | 08/09/07

[FR Doc. E7-16883 Filed 8-24-07; 8:45 am]

BILLING CODE 4510-FN-P